DEPARTMENT OF ENERGY

Federal Energy Regulatory Commission

[Docket No. EL02-52-000]

Municipal Wholesale Power Group, Complainant, v. Wisconsin Power & Light Company, Respondent; Notice of Complaint

January 17, 2002.

Take notice that on January 16, 2002, Municipal Wholesale Power Group (MWPG) filed a complaint with the Federal Energy Regulatory Commission (Commission) against Wisconsin Power & Light Company (WPL) alleging violations of WPL's Rate Schedule W-3, W-3A, and BP-1, and the Commission's Fuel Adjustment Clause Regulations, 18 CFR 35.14.

WPL has been served with a copy of the Complaint.

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before February 5, 2002. Protests will be considered by the Commission in determining the appropriate action to be taken, but will not serve to make protestants parties to the proceeding. Any person wishing to become a party must file a motion to intervene. Answers to the complaint shall also be due on or before February 5, 2002. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-1731 Filed 1-23-02; 8:45 am]

BILLING CODE 6717-01-P